DEPARTMENT OF ENERGY

Federal Energy Regulatory Commission

[Project No. 1744-039]

PacifiCorp; Notice of Scoping Meeting and Soliciting Scoping Comments for an Applicant Prepared Environmental Assessment Using the Alternative Licensing Process

a. Type of Application: Alternative Licensing Process.

b. Project No.: 1744-039.

c. Applicant: PacifiCorp.

d. Name of Project: Weber Hydroelectric Project.

e. Location: On the Weber River, in Weber, Davis, and Morgan Counties, Utah. The project occupies 11.4 acres of United States lands administered by the U.S. Forest Service.

f. Filed Pursuant to: Federal Power Act, 16 U.S.C. 791(a)-825(r).

g. Applicant Contact: Eve Davies, PacifiCorp, 1407 West North Temple, Ste. 110, Salt Lake City, UT 84116; (801) 220-2245; email: eve.davies@pacificorp.com.

h. FERC Contact: Claire McGrath at (202) 502-8290; or email at claire.mcgrath@ferc.gov.

j. Deadline for filing scoping comments: November 6, 2015.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1744-039.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The existing project consists of: (1) The Weber diversion dam with an overall length of 114 feet and crest elevation of 4,798 feet mean sea level (ms)l, consisting of a 27-foot-high, 79-foot-long concrete section, two radial gates approximately 29 feet long, and a 35-foot-long intake structure on the Weber River; (2) a 3-foot by 18-foot non-operative fish passage structure that is used to pass minimum flows through a calibrated slide gate opening; 3) an impoundment with surface area of 8.4 acres at elevation 4,798 msl and total storage of approximately 42 acre-feet; (4) a 9,107-foot-long, 5-foot to 6.3-foot diameter steel penstock partially encased in concrete beginning at the intake and terminating at the powerhouse on the Weber River; (5) a powerhouse with one 3,850 kW generating unit operating under a head of 185 feet and producing a 30-year average annual energy output of 16,932 MWh; (6) a discharging pipe returning turbine flows into the Weber River at the powerhouse; and (7) a 77-foot-long, 46-kV transmission line which connects to the Weber substation. PacifiCorp proposes to build a new fish passage structure at the edge of the existing diversion dam in an area that currently has graded, unvegetated soil.

l. Scoping Process

PacifiCorp intends to utilize the Federal Energy Regulatory Commission's (Commission) alternative licensing process (ALP). Under the ALP, PacifiCorp will prepare an Applicant Prepared Environmental Assessment (APEA) and license application for the Weber Hydroelectric Project.

PacifiCorp expects to file with the Commission, the APEA and the license application for the Weber Hydroelectric Project by February 21, 2018. Although PacifCorp's intent is to prepare an EA, there is the possibility that an Environmental Impact Statement (EIS) will be required. Nevertheless, this meeting will satisfy the NEPA scoping requirements, irrespective of whether an EA or EIS is issued by the Commission.

The purpose of this notice is to inform you of the opportunity to participate in the upcoming scoping meetings identified below, and to solicit your scoping comments.

Scoping Meetings

PacifiCorp and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting

Tuesday, October 6, 2015, 1:00 p.m. (MDT), Ben Lomond Suites, 2510 Washington Blvd., Ogden, Utah 84401.

Evening Meeting

Tuesday, October 6, 2015, 7:00 p.m. (MDT), Ben Lomond Suites, 2510 Washington Blvd., Ogden, Utah 84401.

To help focus discussions, Scoping Document 1 was mailed in September 2015, outlining the subject areas to be addressed in the APEA to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

Based on all written comments received, a Scoping Document 2 (SD2) may be issued. SD2 will include a revised list of issues, based on the scoping sessions.

Environmental Site Review

PacifiCorp and the Commission staff will conduct a project Environmental Site Review beginning at 9:00 a.m. (MDT) on Wednesday, October 7, 2015. All interested individuals, organizations, and agencies are invited to attend; however, anyone planning to attend should notify Miriam Hugentobler at miriam.hugentobler@gmail.com by September 21, 2015. All participants should meet at the Weber Hydroelectric Project recreation site parking lot (see SD1 for directions). All participants are responsible for their own transportation to the site.

Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist PacifiCorp in defining and clarifying the issues to be addressed in the APEA.

Dated: September 3, 2015.
Nathaniel J. Davis, Sr.,
Deputy Secretary.

[FR Doc. 2015-24381 Filed 9-24-15; 8:45 am]

BILLING CODE 6717-01-P